DEPARTMENT OF EDUCATION

Federal Pell Grant, Federal Perkins Loan, Federal Work-Study, Federal Supplemental Educational Opportunity Grant, Federal Family Education Loan, and William D. Ford Federal Direct Loan Programs

Correction

In notice document 02-13704 beginning on page 38079 in the issue of Friday, May 31, 2002, make the following corrections:

1. On page 38079, in the third column, in the third paragraph, in the first line, “Section 477 (B)(5)” should read, “Section 477 (b)(5)”.

2. On page 38080, in the middle of the page, in the table, under the heading “Then the adjusted net worth is-”, in the fourth entry, “$135,000” should read, “$135,500”.

3. On page 38081, in the second column, in the table entitled “INDEPENDENT STUDENTS WITH DEPENDENTS OTHER THAN A SPOUSE”, under age “50”, in the column entitled “married”, “47,400” should read, “47,700”.

[FR Doc. C2-13704 Filed 6-19-02; 8:45 am]

BILLING CODE 1505-01-D

DEPARTMENT OF TRANSPORTATION

Federal Aviation Administration

14 CFR Part 39

[Docket No. 2002-CE-10-AD; Amendment 39-12764; AD 2002-11-03]

RIN 2120-AA64

Airworthiness Directives; Air Tractor, Inc. Models AT-502, AT-502A, AT-502B, and AT-503A Airplanes

Correction

In rule document 02-13423 beginning on page 38371 in the issue of Tuesday, June 4, 2002, make the following corrections:

§ 39.13 [Corrected]

1. On page 38374, in the first column, in paragraph (1), in the second line, “” is removed. In paragraph (1)(ii), in the fifth line, the word “modification” is removed and a period is added at the end of the paragraph.

2. On page 38375, in the first column, a period is added at the end of paragraphs (2)(iii) and (3)(ii).

3. On page 38376, in the first column, a period is added at the end of paragraph (4).

[FR Doc. C2-13423 Filed 6-19-02; 8:45 am]

BILLING CODE 1505-01-D